DEPARTMENT OF HEALTH AND HUMAN SERVICES

National Institutes of Health

Center for Scientific Review; Amended Notice of Meeting

Notice is hereby given of a change in the meeting of the Center for Scientific Review Special Emphasis Panel, July 14, 2003, 12 p.m. to July 14, 2003 2 p.m. National Institutes of Health, 6701 Rockledge Drive, Bethesda, MD, 20892, which was published in the Federal Register on July 15, 2003, 68 FR 41832-41833.

The meeting will be held on July 24, 2003. The time and location remain the same. The meeting is closed to the public.

Dated: July 18, 2003.
LaVerne Y. Stringfield,
Director, Office of Federal Advisory Committee Policy.

[FR Doc. 03-18874 Filed 7-23-03; 8:45 am]

BILLING CODE 4140-01-M